DEPARTMENT OF STATE

[Delegation of Authority No. 392]

Delegation of the Functions and Authorities of the Ambassador-at-Large for War Crimes Issues to the Special Coordinator for Global Criminal Justice

By virtue of the authority vested in me by the laws of the United States, including the State Department Basic Authorities Act, as amended (22 U.S.C. 2651a) and 2113 of Title XXI, Public Law 110-53 (22 U.S.C. 8213, and to the extent authorized by law, I hereby delegate to the Special Coordinator for Global Criminal Justice all functions and authorities vested in the Ambassador-at-Large for War Crimes Issues.

Any act, manual, or procedure subject to, affected, or incorporated by, this delegation shall be deemed to be such act, manual, or procedure as amended from time to time.

This delegation of authority shall be in effect until revoked by competent authority. This delegation of authority does not revoke or otherwise affect any other delegation of authority currently in effect.

This document will be published in the Federal Register.

Dated: March 3, 2016.
John F. Kerry,
Secretary of State.

[FR Doc. 2016-05849 Filed 3-14-16; 8:45 am]

BILLING CODE 4710-08-P